DEPARTMENT OF ENERGY

Federal Energy Regulatory Commission

[Docket No. EL98-6-001]

Old Dominion Electric Cooperative, Complainant v. Public Service Electric and Gas Company, Respondent; Notice of Amended Complaint

January 29, 2003.

Take notice that on January 24, 2003, pursuant to Rules 206, 212 and 716 of the Federal Power Act, Old Dominion Electric Cooperative (Old Dominion) filed with the Federal Energy Regulatory Commission (Commission) an amended complaint against Public Service Electric and Gas Company (PSE&G) requesting that the Commission: consider Old Dominion's previously-filed complaint action against PSE&G, as amended; on its merits; find that the rate pancaking to Old Dominion under a bundled power sales contract between Old Dominion and PSE&G is unjust, unreasonable, and unduly discriminatory; order and direct that the transmission component in the bundled rate of PSE&G under the contract be eliminated; and on a fast-track basis, direct that PSE&G defer any claim or demand for payment of past due amounts prior to final Commission determination of the matters and proceedings discussed in Old Dominion's motion or grant a stay pending final Commission determination on such matters.

Old Dominion states that copies of the filing were served upon PSE&G, PJM, Delmarva Power & Light Company, and the Delaware Public Service Commission. Old Dominion is not aware of any other parties that may be expected to be affected by the complaint.

Any person desiring to be heard or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. The answer to the complaint and all comments, interventions or protests must be filed on or before the comment date . This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866)208-3676, or for TTY, contact (202)502-8659. The answer to the complaint, comments, protests and interventions may be filed electronically via the Internet in lieu of paper; see 18 CFR 385.2001(a)(1)(iii) and the instructions on the Commission's Web site under the “e-Filing” link. The Commission strongly encourages electronic filings.

Comment Date: February 14, 2003.

Magalie R. Salas,
Secretary.

[FR Doc. 03-2876 Filed 2-5-03; 8:45 am]

BILLING CODE 6717-01-P